DEPARTMENT OF HOUSING AND URBAN DEVELOPMENT

[Docket No. FR-5786-C-02]

Correction to Federal Housing Administration (FHA): Homeowners Armed With Knowledge (HAWK) for New Homebuyers Contact Information

AGENCY: Office of General Counsel, HUD.

ACTION: Notice; Correction.

SUMMARY: HUD published a notice in the Federal Register on May 15, 2014, announcing a proposed four year, two-phase, housing counseling pilot, “HAWK for New Homebuyers.” The document contained the incorrect contact for individuals to seek further information. This notice provides the correct contact information.

FOR FURTHER INFORMATION CONTACT: Arlene Nunes, (202) 402-2532, about this notice.

Correction:

In the May 15, 2014 Federal Register, in FR Doc. 2014-11152, in the FOR FURTHER INFORMATION CONTACT section, correct the FOR FURTHER INFORMATION CONTACT section to read:

FOR FURTHER INFORMATION CONTACT: Email specific program questions to housing.counseling@hud.gov and include “HAWK Notice Question” in the subject line. You may also send inquiries to the attention of: Arlene Nunes, Office of Housing, Department of Housing and Urban Development, 451 7th Street SW., Room 9224, Washington, DC 20410; or call (202) 402-2532 (this is not a toll-free number). Persons with hearing or speech impairments may access this number via TTY by calling the toll-free Federal Relay Service at 800- 877-8339.

Dated: May 19, 2014.
Camille E. Acevedo,
Associate General Counsel for Legislation and Regulations.

[FR Doc. 2014-12027 Filed 5-22-14; 8:45 am]

BILLING CODE 4210-67-P